DEPARTMENT OF ENERGY

Federal Energy Regulatory Commission

18 CFR Parts 366 and 385

[Docket No. RM06-25-000; Order No. 685]

Electronic Filing of FERC Form No. 60; Notice Providing Detail on FERC Form 60 Software Availability for Electronic Filing

December 13, 2006.

AGENCY: Federal Energy Regulatory Commission, DOE.

ACTION: Final Rule: Notice Providing Detail on Software Availability.

SUMMARY: On October 19, 2006, the Federal Energy Regulatory Commission issued Order No. 685 which instructed all centralized service companies to file the currently-effective FERC Form No. 60 using form submission software. (71 FR 65049, November 7, 2006). By this notice, the Commission is providing detail on FERC Form 60 software availability for electronic filing.

DATES: Effective Date: January 7, 2007.

FOR FURTHER INFORMATION CONTACT: Julia A. Lake (Legal Information), Office of the General Counsel—Energy Markets, Federal Energy Regulatory Commission, 888 First Street, NE., Washington, DC 20426. Telephone: (202) 502-8370. E-mail: julia.lake@ferc.gov.

Michelle Veloso (Technical Information), Division of Financial Regulation, Office of Enforcement, Federal Energy Regulatory Commission, 888 First Street, NE., Washington, DC 20426. Telephone: (202) 502-8363. E-mail: michelle.veloso@ferc.gov.

SUPPLEMENTARY INFORMATION: On December 8, 2005, the Commission issued Order No. 667, requiring among other things that centralized service companies file an annual financial report entitled FERC Form No. 60, Annual Report for Centralized Service Companies (FERC Form No. 60).¹ On October 19, 2006, the Commission issued Order No. 685, instructing all centralized service companies to file the currently-effective FERC Form No. 60 using form submission software beginning with the filings due by May 1, 2007.² In that order, the Commission stated that instructions would be provided concerning how a centralized service company may register as a respondent and download the form submission software for use in filing the FERC Form No. 60. This notice provides instructions for obtaining access to the new software.

¹ Repeal of the Public Utility Holding Company Act of 1935 and the Enactment of the Public Utility Holding Company Act of 2005, Order No. 667, 70 FR 75592 (Dec. 20, 2005), FERC Stats. & Regs. ¶ 31,197 (2005), order on reh'g, Order No. 667-A, 71 FR 28446 (May 16, 2006), FERC Stats. & Regs. ¶ 31,213 (2006), order on reh'g, Order No. 667-B, 71 FR 42750 (July 28, 2006), FERC Stats. & Regs. ¶ 31,224 (2006).

² Electronic Filing of FERC Form No. 60, Order No. 685, 71 FR 65049 (Nov. 7, 2006), FERC Stats. & Regs. ¶ 31,230 (2006).

The FERC Form No. 60 submission software will be available for respondents on the Commission's Web site under eForms by February 5, 2007. No changes are being made to data reported in the currently-effective FERC Form No. 60. However, minor formatting changes were made to facilitate electronic filing. The minor changes include: placing the instructions at the top of each page for each schedule; updating certain schedules so that the data and information is reported in a structured format on the schedule; renumbering certain pages; and updating the General Instructions to clarify that the respondents will be required to use the form submission software to file the form.

Filers of the FERC Form No. 60 will need an identification number to access the form submission software. To obtain an identification number, please e-mail FERC Online Support at ferconlinesupport@ferc.gov and include your name, company name, company address, and phone number. If you will file for more than one company, please include the names of all companies in the e-mail. You will receive an identification number for each company by return e-mail. The identification number is critical for the electronic filing of the FERC Form No. 60. For security reasons, identification numbers will not be given out over the phone. The FERC Form No. 60 filing for the calendar year 2006 must be filed electronically no later than May 1, 2007. Submittals made using any other format or media will not be compliant with Order No. 685.

The Commission will conduct beta testing on the FERC Form No. 60 submission software in early January 2007. FERC Form No. 60 filers wishing to participate in beta testing should e-mail form60_registration@ferc.gov by December 29, 2006, and provide contact information including company name, company address, phone number, and contact person's e-mail address.

If respondents have questions about how to install or use the FERC Form No. 60 software, they should call toll free at (866) 208-3676 or locally at (202) 502-6652 (or (202) 502-8659 for TTY), or e-mail ferconlinesupport@ferc.gov to obtain help.

Magalie R. Salas,
Secretary.

[FR Doc. E6-21617 Filed 12-19-06; 8:45 am]

BILLING CODE 6717-01-P